DEPARTMENT OF DEFENSE

Department of the Army

[Docket ID: USA-2008-0032]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0351-1a TRADOC

System name:

Automated Instructional Management System-Redesign (AIMS-R) (October 16, 2000, 65 FR 61150).

Changes:

Change system ID to A0350-1a TRADOC.

System name:

Delete entry and replace with “Resident Individual Training Management System (RTIMS)”

System location:

Delete entry and replace with “Headquarters, Training and Doctrine Command (TRADOC); TRADOC Service Schools; and Army Training Centers. Addresses for the above may be obtained from the Commander, U.S. Army Training Center, 3308 Wilson Avenue, Fort Eustis, VA 23604-5166.”

* * * * *

Authority for maintenance of the system:

Delete entry and replace with “10 U.S.C. 3013, Secretary of the Army; Army Regulation 350-1, Army Training and Leader Development; and E.O. 9397 (SSN).”

* * * * *

Storage:

Delete entry and replace with “Paper printouts and electronic storage media.”

Retrievability:

Retrieved by Social Security Number and course/class number.

* * * * *

Notification procedure:

Delete entry and replace with “Individuals seeking to determine if information about themselves is contained in this system should address written inquiries to the Commander, U.S. Army Training Support Center, 3308 Wilson Avenue, Fort Eustis, VA 23604-5166.

Individual should provide the full name, Social Security Number, and military status or other information verifiable from the record itself.”

Record access procedures:

Delete entry and replace with “Individuals seeking access to information about themselves contained in this system should address written inquiries to the Commander, U.S. Army Training Support Center, 3308 Wilson Avenue, Fort Eustis, VA 23604-5166.

Individual should provide the full name, Social Security Number, and military status or other information verifiable from the record itself.”

* * * * *

A0350-1a TRADOC

System name:

Resident Individual Training Management System (RTIMS)

System location:

Headquarters, Training and Doctrine Command (TRADOC); TRADOC Service Schools; and Army Training Centers. Addresses for the above may be obtained from the Commander, U.S. Army Training Center, 3308 Wilson Avenue, Fort Eustis, VA 23604-5166.

Categories of individuals covered by the system:

Military members of the Army, Navy, Marine Corps, and Air Force, and civilians employed by the U.S. Government, and approved foreign military personnel enrolled in a resident course at a U.S. Army service school.

Categories of records in the system:

Course data to include scheduling, testing, academic, graduation, personnel and attrition data.

Authority for maintenance of the system:

10 U.S.C. 3013, Secretary of the Army; Army Regulation 350-1, Army Training and Leader Development; and E.O. 9397 (SSN).

Purpose(s):

To automate those processes associated with the scheduling, management, testing, and tracking of resident student training. This TRADOC standard management system is composed of several subsystems which perform functions for personnel, student load management, academic records management, test creation, scoring and grading, student critique, resource scheduling and utilization, and query.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper printouts and electronic storage media.

Retrievability:

Retrieved by Social Security Number and course/class number.

Safeguards:

Access to system is restricted to authorized personnel only with sign-on and password authorization.

Retention and disposal:

Records are maintained for 40 years then destroyed. However, records on extension courses are maintained for 3 years in current file area, transferred to the records holding area for 2 years then finally retired to the National Personnel Records Center, 9700 Page Avenue, St. Louis, MO 63132-5100.

System manager(s) and address:

Commander, U.S. Army Training Support Center, Privacy Act Officer, 667 Monroe Avenue, Fort Eustis, VA 26604.

Notification procedure:

Individuals seeking to determine if information about themselves is contained in this system should address written inquiries to the Commander, U.S. Army Training Support Center, 3308 Wilson Avenue, Fort Eustis, VA 23604-5166.

Individual should provide the full name, Social Security Number, and military status or other information verifiable from the record itself.

Record access procedures:

Individuals seeking access to information about themselves contained in this system should address written inquiries to the Commander, U.S. Army Training Support Center, 3308 Wilson Avenue, Fort Eustis, VA 23604-5166.

Individual should provide the full name, Social Security Number, and military status or other information verifiable from the record itself.

Contesting record procedures:

The Army's rules for accessing records, contesting contents and appealing initial agency determinations are contained in Army Regulation 340-21; 32 CFR part 505; or may be obtained from the system manager.

Record source categories:

Information is received from the individual, DoD staff, Personnel and Training systems, and faculty.

Exemptions claimed for the system:

None.

[FR Doc. E8-17028 Filed 7-24-08; 8:45 am]

BILLING CODE 5001-06-P